DEPARTMENT OF COMMERCE

National Oceanic and Atmospheric Administration

Public Meetings of the Science Advisory Board

AGENCY: Office of Oceanic and Atmospheric Research (OAR), National Oceanic and Atmospheric Administration (NOAA), Department of Commerce (DOC).

ACTION: Notice of public meetings.

SUMMARY: This notice sets forth the schedule and proposed agenda of two meetings of the Science Advisory Board (SAB). The members will discuss issues outlined in the section on Matters to be considered.

DATES: There are two meetings: the first meeting is scheduled for April 26, 2023 from 8:30 a.m. to 5:45 p.m. Eastern Daylight Time (EDT) and April 27, 2023 from 8:30 a.m. to 12:00 p.m. (EDT). The second meeting is scheduled for July 26, 2023, from 8:00 a.m. to 5:00 p.m. Pacific Daylight Time (PDT) and July 27, 2023 from 8:00 a.m. to 12:00 p.m. (PDT) These times and the agenda topics described below are subject to change.

For the latest agenda please refer to the SAB website: http://sab.noaa.gov/SABMeetings/.

ADDRESSES: The April 26-27, 2023 meeting will be at the DoubleTree by Hilton Silver Spring Washington DC North, 8777 Georgia Ave., Silver Spring, MD. The link for the webinar registration for the April 26-27, 2023 meeting may be found here, when available: https://sab.noaa.gov/index.php/current-meetings/.

The July 26-27, 2023 meeting will be at the Southern California Coastal Water Research Project, 3535 Harbor Blvd., Suite 110, Costa Mesa, CA 92626. The link for the webinar registration for the July 26-27, 2023 meeting may be found here, when available: https://sab.noaa.gov/index.php/current-meetings/.

FOR FURTHER INFORMATION CONTACT: Dr. Cynthia Decker, Executive Director, SSMC3, Room 11230, 1315 East-West Hwy., Silver Spring, MD 20910; Phone Number: (202) 936-5847; Email: Cynthia.Decker@noaa.gov; or visit the SAB website at http://sab.noaa.gov/SABMeetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The April 26-27, 2023 meeting will be open to public participation with a 15-minute public comment period at 5:30 p.m. (EDT). The July 26-27, 2023 meeting will have a 15-minute public comment period at 4:45 p.m. (PDT). The SAB expects that public statements presented at its meetings will not be repetitive of previously submitted verbal or written statements. In general, each individual or group making a verbal presentation will be limited to a total time of three minutes. Written comments for the April 26-27, 2023 meeting should be received by April 14, 2023 and written comments for the July 26-27, 2023 meeting should be received in the SAB Executive Director's Office by July 14, 2023 to provide sufficient time for SAB review. Written comments received by the SAB Executive Director after these dates will be distributed to the SAB, but may not be reviewed prior to the meeting date.

Special Accommodations: These meetings are physically accessible to people with disabilities. Requests for special accommodations may be directed to the Executive Director no later than 12 p.m. on April 9 for the April 26-27, 2023 meeting and by no later than 12 p.m. on July 9 for the July 26-27, 2023 meeting.

Matters to be Considered: The meeting on April 26-27, 2023 will include the following topics: (1) the NOAA Update, (2) NOAA Science Update, (3) Presentation of the CWG Climate and Air Quality report, (4) Presentation on the NOAA Response to Leadership in Coastal Resilience Report, (5) Presentation on the CWG Emerging Hazards and Vulnerabilities report, (6) Presentation on NOAA Response to TSTAP 1st quadrennial report, and (7) Updates from SAB Working Groups.

The July 26-27, 2023 meeting will consider updates and reports and NOAA responses on topics contained in the SAB Work Plan. Meeting materials, including work products, will be made available on the SAB website: http://sab.noaa.gov/SABMeetings/.

David Holst,
Chief Financial Officer and Administrative Officer, Office of Oceanic and Atmospheric Research, National Oceanic and Atmospheric Administration.

[FR Doc. 2023-05903 Filed 3-21-23; 8:45 am]

BILLING CODE 3510-KD-P